DEPARTMENT OF COMMERCE

International Trade Administration

Proposed Information Collection; Comment Request; Survey of Organizations Participating in the United States (U.S.)—European Union (EU) Safe Harbor Framework and United States (U.S.)—Switzerland (Swiss) Safe Harbor Framework

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 11, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to: David Ritchie or Nick Enz, U.S. Department of Commerce, International Trade Administration, U.S.-EU & U.S.-Swiss Safe Harbor Programs, 1401 Constitution Avenue NW., Room 20007, Washington, DC 20230; (or via the Internet at safe.harbor@trade.gov); tel. 202-482-4936 or 202-482-1512.

SUPPLEMENTARY INFORMATION:

I. Abstract

The following concerns the voluntary survey that U.S. organizations are asked to complete and submit to the U.S. Department of Commerce (DOC) when they self-certify their compliance with the U.S.-EU Safe Harbor Framework and/or the U.S.-Swiss Safe Harbor Framework.

The DOC's International Trade Administration (ITA) administers the U.S.-EU Safe Harbor program and U.S.-Swiss Safe Harbor program. The U.S.-EU Safe Harbor Framework and U.S.-Swiss Safe Harbor Framework provide eligible U.S. organizations with a streamlined means of complying with the relevant requirements of the European Union's Data Protection Directive and the Swiss Federal Act on Data Protection. The Safe Harbor Frameworks help facilitate the flow of personal data worth critical to billions of dollars in trade between the United States and the EU and Switzerland.

In line with President Obama's National Export Initiative, the DOC is interested in gathering information from U.S. organizations that participate in one or both of the Safe Harbor programs to: (a) Better evaluate how the Safe Harbor Frameworks support U.S. exports, and (b) potentially identify areas for improvement. The voluntary survey provides participants, including small businesses, in the Safe Harbor programs with an opportunity to communicate directly with the DOC regarding these programs.

The information collected through this survey will not be made public, except at the aggregate level. The information will be obtained via a survey using the following questions:

(1) Does your organization's participation in the U.S.-EU or U.S.-Swiss Safe Harbor programs help your organization increase U.S. exports and support U.S. jobs?

(2) Please specify the approximate amount of exports in United States Dollars (USD) facilitated by your organization's participation in the U.S.-EU or U.S.-Swiss Safe Harbor programs (please include any sales or contracts that were won or retained as a result of your participation in the programs).

(3) Does your organization currently have a contract that is dependent on self-certification to the U.S.-EU or U.S.-Swiss Safe Harbor programs? If so, what is the value of that contract(s)?

(4) What do the U.S.-EU and U.S.-Swiss Safe Harbor programs mean to your organization in terms of business opportunities in Europe?

(5) Tell us what you think about the U.S.-EU and U.S.-Swiss Safe Harbor programs?

II. Method of Collection

The DOC offers U.S. organizations the opportunity to complete this voluntary survey via the DOC's Safe Harbor Web site, located at http://export.gov/safeharbor.

III. Data

OMB Control Number: 0625-0268.

Form Number(s): None.

Type of Review: Regular submission (extension of a currently approved information collection).

Affected Public: Business or other for-profit organizations.

Estimated Number of Respondents: 1,284.

Estimated Time per Response: 20 minutes for completion of survey responses submitted with initial self-certification or recertification submission via DOC's Safe Harbor Web site).

Estimated Total Annual Burden Hours: 428.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 6, 2014.
Gwellnar Banks,
Management Analyst, Office of the Chief Information Officer.

[FR Doc. 2014-10719 Filed 5-9-14; 8:45 am]

BILLING CODE 3510-DR-P